DEPARTMENT OF TRANSPORTATION

Federal Aviation Administration

14 CFR Part 39

[Docket No. FAA-2008-0641; Directorate Identifier 2008-NM-105-AD; Amendment 39-15573; AD 2008-13-10]

RIN 2120-AA64

Airworthiness Directives; Dassault Model Falcon 7X Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

Investigation following incidents on the production line has shown that power feeders inside the Secondary Power Distribution Boxes (SPDB) may be damaged because of interference with other internal parts. This condition, if not corrected, may lead to losing essential feeders. The resulting power shortage may reduce aircraft operability and affect flight safety margins.

* * * * *

Damaged secondary power distribution boxes could lead to loss of electrical power resulting in depressurization with loss of passenger oxygen supply and uncommanded slat retraction. This AD requires actions that are intended to address the unsafe condition described in the MCAI.

DATES: This AD becomes effective July 7, 2008.

The Director of the Federal Register approved the incorporation by reference of a certain publication, listed in the AD as of July 7, 2008.

We must receive comments on this AD by July 21, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-40, 1200 New Jersey Avenue SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

The European Aviation Safety Agency (EASA), which is the Technical Agent for the Member States of the European Community, has issued EASA Emergency Airworthiness Directive 2008-0085-E, dated May 6, 2008 (referred to after this as “the MCAI”), to correct an unsafe condition for the specified products. The MCAI states:

Investigation following incidents on the production line has shown that power feeders inside the Secondary Power Distribution Boxes (SPDB) may be damaged because of interference with other internal parts. This condition, if not corrected, may lead to losing essential feeders. The resulting power shortage may reduce aircraft operability and affect flight safety margins.

To address and correct the unsafe condition, an upgraded SPDB with improved internal feeder routing has been developed.

For the reasons described above, this Airworthiness Directive (AD) requires replacement of all affected SPDB with upgraded units and, in the meantime, the implementation of temporary Airplane Flight Manual (AFM) procedures and Master Minimum Equipment List (MMEL) restrictions before replacement of all affected SPDB.

Damaged secondary power distribution boxes could lead to loss of electrical power resulting in depressurization with loss of passenger oxygen supply and uncommanded slat retraction. You may obtain further information by examining the MCAI in the AD docket.

Relevant Service Information

Dassault has issued Service Bulletin 7X-064, dated April 16, 2008. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

An unsafe condition exists that requires the immediate adoption of this AD. The FAA has found that the risk to the flying public justifies waiving notice and comment prior to adoption of this rule because operators must adhere to certain operational and dispatch limitations to prevent possible catastrophic situations from loss of essential buses through damage to the SPDBs. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2008-0641; Directorate Identifier 2008-NM-105-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-13-10 Dassault Aviation (Formerly Avions Marcel Dassault-Breguet Aviation (AMD/BA)): Amendment 39-15573. Docket No. FAA-2008-0641; Directorate Identifier 2008-NM-105-AD.

Effective Date

(a) This airworthiness directive (AD) becomes effective July 7, 2008.

Affected ADs

(b) None.

Applicability

(c) This AD applies to Dassault Model Falcon 7X airplanes, all serial numbers, certificated in any category, if equipped with secondary power distribution box (SPDB) units with part number (P/N) SPD500-B3, SPD600-A9, SPD300-B3-A6 and/or SPD400-B4-A6, except those airplanes that have received modification M890 prior to delivery.

Subject

(d) Air Transport Association (ATA) of America Code 24: Electrical Power.

Reason

(e) The mandatory continued airworthiness information (MCAI) states:

Investigation following incidents on the production line has shown that power feeders inside the Secondary Power Distribution Boxes (SPDB) may be damaged because of interference with other internal parts. This condition, if not corrected, may lead to losing essential feeders. The resulting power shortage may reduce aircraft operability and affect flight safety margins.

To address and correct the unsafe condition, an upgraded SPDB with improved internal feeder routing has been developed.

For the reasons described above, this Airworthiness Directive (AD) requires replacement of all affected SPDB with upgraded units and, in the meantime, the implementation of temporary Airplane Flight Manual (AFM) procedures and Master Minimum Equipment List (MMEL) restrictions before replacement of all affected SPDB.

Damaged secondary power distribution boxes could lead to loss of electrical power resulting in depressurization with loss of passenger oxygen supply and uncommanded slat retraction.

Actions and Compliance

(f) Unless already done, do the following actions.

(1) Within 10 days after the effective date of this AD, revise the Limitations Section of the AFM to include the following information. This may be done by inserting a copy of this AD in the AFM. These temporary amendments take precedence over the same procedures displayed through the electronic check list (ECL) in the aircraft.

“○ Dispatch with ATA27 Flight Controls MMEL items is not authorized.

○ Dispatch with IRS 3 inoperative is not authorized.

○ Land as soon as possible upon display on Crew Alerting system of following messages per the AFM as already requested for ELEC: LH FRONT ESS FAIL (AFM 3-190-50):

• ELEC: LH REAR ESS FAIL (AFM 3-190-50)

• ELEC: RH FRONT ESS FAIL (AFM 3-190-55)

• ELEC: RH REAR ESS FAIL (AFM 3-190-55)”

Note 1: When a statement identical to that in paragraph (f)(1) of this AD has been included in the general revisions of the AFM, the general revisions may be inserted into the AFM, and the copy of this AD may be removed from the AFM.

(2) Within 2 months after the effective date of this AD, replace all SPDB units with upgraded units in accordance with the Accomplishment Instructions of Dassault Service Bulletin 7X-064, dated April 16, 2008. After replacement of all SPDB units as required by paragraph (f)(2) of this AD, the limitations required by paragraph (f)(1) of this AD may be removed from the AFM.

FAA AD Differences

Note 2: This AD differs from the MCAI and/or service information as follows: Although the MCAI specifies to amend the Abnormal Procedures section of the AFM, the Quick Reference Handbook 2, and the Master Minimum Equipment List, this AD instead requires revising only the Limitations section of the AFM. Operators must comply with the terms of the Limitations section, as specified in section 91.9 of the Federal Aviation Regulations (14 CFR 91.9).

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Emergency Airworthiness Directive 2008-0085-E, dated May 6, 2008, and Dassault Service Bulletin 7X-064, dated April 16, 2008, for related information.

Material Incorporated by Reference

(i) You must use Dassault Service Bulletin 7X-064, dated April 16, 2008, to do the actions required by this AD, unless the AD specifies otherwise.

(1) The Director of the Federal Register approved the incorporation by reference of this service information under 5 U.S.C. 552(a) and 1 CFR part 51.

(2) For service information identified in this AD, contact Dassault Falcon Jet, P.O. Box 2000, South Hackensack, New Jersey 07606.

(3) You may review copies at the FAA, Transport Airplane Directorate, 1601 Lind Avenue SW., Renton, Washington; or at the National Archives and Records Administration (NARA). For information on the availability of this material at NARA, call (202) 741-6030, or go to: http://www.archives.gov/federal-register/cfr/ibr-locations.html.

Issued in Renton, Washington, on June 10, 2008.
Ali Bahrami,
Manager, Transport Airplane Directorate, Aircraft Certification Service.

[FR Doc. E8-13712 Filed 6-18-08; 8:45 am]

BILLING CODE 4910-13-P